Proclamation 10104 of October 16, 2020

National Forest Products Week, 2020

By the President of the United States of America

A Proclamation

Our Nation's magnificent forests are a source of commerce, recreation, and pride for all Americans. America's woodlands are capable of producing a myriad of products and materials that bolster our economy, improve our daily lives, supply our environment with clean air, and provide countless Americans an escape to hike and relax in a tranquil and picturesque setting. During National Forest Products Week, we appreciate the essential role forests and forest products play in our livelihood and prosperity, and we renew our commitment to maintaining these treasured woodlands for future generations.

The forest industry adds nearly $300 billion annually to our Gross Domestic Product and employs almost one million Americans. To ensure this sector of our economy continues to flourish, my Administration is strengthening markets for wood products and incentivizing innovative manufacturing techniques. As a result of these efforts, the Department of Agriculture's Forest Service sold 3.3 billion board feet of timber from National Forests in fiscal year 2019—the highest output since 1997.

In addition to bolstering rural economies, our foresters use science-based forest management practices in order to promote forest health and reduce wildfire risk. Over the past several months, our country has been particularly reminded of how devastating wildfires and natural disasters can be to our way of life and our economy. Throughout the western United States, wildfires have scorched and destroyed millions of acres of forest, and as a result of Hurricane Laura, the timber industry suffered an estimated $1.1 billion economic loss. This devastation has placed additional burdens on an essential industry that has been instrumental to our efforts to overcome the coronavirus pandemic, including by working to produce safer product packaging, like the wooden pallets used to deliver critical household items such as paper products, diapers, disinfecting wipes, medications, and mask filters. It is imperative that we safeguard our domestic supply of timber, provide economic security for our forest landowners, and maintain the viability of this critical aspect of our economy for the benefit of all Americans.

A sound forest products industry produces positive environmental benefits as well. In order to further promote forest health and protect the environment, on January 21, 2020, I announced that the United States would be joining the World Economic Forum's One Trillion Trees initiative, an ambitious global effort to grow and conserve one trillion trees worldwide by 2030. Following through on my commitment, and given the expansive footprint of our Federal forests and woodlands, I signed an Executive Order to establish the United States One Trillion Trees Interagency Council to further the Federal Government's participation in this effort. To complement these efforts, I have called for the passage of the bi-partisan REPLANT Act (S. 4357), which would help address the Forest Service's reforestation backlog and continued annual reforestation needs by removing the current $30 million annual funding cap for the Reforestation Trust Fund.

This week, we recommit to bolstering the forest products industry and to continuing to appreciate the natural resources God has bestowed upon our country. Together with our Nation's foresters, we can preserve our beautiful forests for every American in order to secure a future of environmental and economic success now and for posterity.

Recognizing the economic importance of the many products generated from our Nation's forests, the Congress, through enactment of Public Law 86-753 (36 U.S.C. 123), as amended, has designated the week beginning on the third Sunday in October of each year as “National Forest Products Week” and has authorized and requested the President to issue a proclamation in observance of this week.

NOW, THEREFORE, I, DONALD J. TRUMP, President of the United States of America, by virtue of the authority vested in me by the Constitution and the laws of the United States, do hereby proclaim October 18 through October 24, 2020, as National Forest Products Week. I call upon all Americans to observe this week with appropriate observances and activities and to reaffirm our commitment to our Nation's forests and the products that they provide.

IN WITNESS WHEREOF, I have hereunto set my hand this sixteenth day of October, in the year of our Lord two thousand twenty, and of the Independence of the United States of America the two hundred and forty-fifth.

[FR Doc. 2020-23539

Filed 10-21-20; 8:45 am]

Billing code 3295-F1-P